DEPARTMENT OF COMMERCE

International Trade Administration

[A-570-848]

Freshwater Crawfish Tail Meat From the People's Republic of China: Initiation of New Shipper Antidumping Administrative Reviews

AGENCY: Import Administration, International Trade Administration, Department of Commerce.

ACTION: Notice of Initiation of New Shipper Antidumping Administrative Reviews.

SUMMARY: The Department of Commerce (the Department) has received a request from China Kingdom Import & Export Co., Ltd. (China Kingdom), Shouzhou Huaxiang Foodstuffs Co., Ltd. (Shouzhou), Coastal (Jiang Su) Foods Co., Ltd. (Coastal), and Shanghai Taoen International Trading Co., Ltd. (Shanghai Taoen) to conduct new shipper administrative reviews of the antidumping duty order on freshwater crawfish tail meat from the People's Republic of China (PRC). In accordance with section 751(a)(2)(B) of the Tariff Act of 1930 and 19 CFR 351.214(d) of the Department's current regulations, we are initiating these new shipper administrative reviews.

EFFECTIVE DATE: November 6, 2000.

FOR FURTHER INFORMATION CONTACT: Abdelali Elouaradia or Samantha Denenberg, AD/CVD Enforcement, Import Administration, International Trade Administration, U.S. Department of Commerce, 14th Street and Constitution Avenue, N.W., Washington, D.C. 20230; telephone: (202) 482-1374 or (202)482-1386, respectively.

The Applicable Statute and Regulations

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR Part 351(2000).

Background

On September 29, 2000, the Department received timely requests, in accordance with section 751(a)(2)(B) of the Act and 19 CFR 351.214(c), for new shipper administrative reviews of this antidumping duty order which has a September anniversary month and a March semi-anniversary month.

Initiation of Review

Pursuant to 19 CFR 351.214(b)(2)(i) and 19 CFR 351.214(b)(2)(iii)(A), in its September 29, 2000 request for review, China Kingdom certified that it did not export the subject merchandise to the United States during the period of investigation (POI) and that it is not affiliated with any company which exported subject merchandise to the United States during the POI. Pursuant to 19 CFR 351.214(b)(2)(iii)(B), China Kingdom further certified that its export activities are not controlled by the central government of the PRC.

Pursuant to 19 CFR 351.214(b)(2)(i) and 19 CFR 351.214(b)(2)(iii)(A), in its September 29, 2000 request for review, Shouzhou certified that it did not export the subject merchandise to the United States during POI and that it is not affiliated with any company which exported subject merchandise to the United States during the POI. Pursuant to 19 CFR 351.214(b)(2)(iii)(B), Shouzhou further certified that its export activities are not controlled by the central government of the PRC.

Pursuant to 19 CFR 351.214(b)(2)(i) and 19 CFR 351.214(b)(2)(iii)(A), in its September 29, 2000 request for review, Coastal certified that it did not export the subject merchandise to the United States during the POI and that it is not affiliated with any company which exported subject merchandise to the United States during the POI. Pursuant to 19 CFR 351.214(b)(2)(iii)(B), Coastal further certified that its export activities are not controlled by the central government of the PRC.

Pursuant to 19 CFR 351.214(b)(2)(i) and 19 CFR 351.214(b)(2)(iii)(A), in its September 29, 2000 request for review, Shanghai Taoen certified that it did not export the subject merchandise to the United States during the POI and that it is not affiliated with any company which exported subject merchandise to the United States during the POI. Pursuant to 19 CFR 351.214(b)(2)(iii)(B), Shanghai Taoen further certified that its export activities are not controlled by the central government of the PRC. All of the above requests also included all documentation required under 19 CFR 351.214(b)(2)(iv).

In accordance with section 751(a)(2)(B) and 19 CFR 351.214(d), we are initiating new shipper reviews of the antidumping duty order on freshwater crawfish tail meat from the PRC.

In accordance with 19 CFR 351.214(g)(1)(i)(A) of the Department's regulations, the period of review (POR) for a new shipper review initiated in the month immediately following the anniversary month will be the twelve-month period immediately preceding the semiannual anniversary month. Therefore, the POR for these new shippers is:

Antidumping duty proceeding | Period to be reviewed
Freshwater Crawfish Tail Meat from the PRC, A-570-848:
China Kingdom Import & Export Co., Ltd | 9/01/99-8/31/00
Shouzhou Huaxiang Foodstuffs Co., Ltd | 9/01/99-8/31/00
Coastal (Jiang Su) Foods Co., Ltd | 9/01/99-8/31/00
Shanghai Taoen International Trading Co., Ltd | 9/01/99-8/31/00

Concurrent with the publication of this initiation notice, we will instruct the U.S. Customs Service to allow, at the option of the importer, the posting of a bond or security in lieu of a cash deposit for each entry of the merchandise exported by the companies listed above, until the completion of the review. This action is in accordance with 19 CFR 351.214(e).

The interested parties must submit applications for disclosure of business proprietary information under administrative protective order in accordance with 19 CFR 351.305 and 351.306.

This initiation and notice are in accordance with section 751(a) of the Act (19 U.S.C. 1675(a)) and 19 CFR 351.214.

Dated: October 31, 2000.
Joseph A. Spetrini,
Deputy Assistant Secretary, AD/CVD Enforcement Group III.

[FR Doc. 00-28429 Filed 11-3-00; 8:45 am]

BILLING CODE 3510-DS-P